DEPARTMENT OF COMMERCE

International Trade Administration

[A-821-817]

Silicon Metal From the Russian Federation: Final Results of the Expedited Second Sunset Review of the Antidumping Duty Order

AGENCY: Import Administration, International Trade Administration, Department of Commerce.

DATES: Effective Date: October 3, 2013.

SUMMARY: On June 3, 2013, the Department of Commerce (“Department”) initiated the second sunset review of the antidumping duty order on silicon metal from the Russian Federation.¹ The Department finds that revocation of this antidumping duty order would be likely to lead to continuation or recurrence of dumping at the rates identified in the “Final Results of Review” section of this notice.

¹ See Initiation of Five Year (“Sunset”) Review, 78 FR 33063 (June 3, 2013) (Sunset Initiation Notice).

FOR FURTHER INFORMATION CONTACT: Elfi Blum, AD/CVD Operations, Office 6, Import Administration, International Trade Administration, U.S. Department of Commerce, 14th Street and Constitution Avenue NW., Washington, DC 20230; telephone (202) 482-0197.

SUPPLEMENTARY INFORMATION:

Background

The antidumping duty order on silicon metal from the Russian Federation was published on March 26, 2003.²

² See Antidumping Duty Order: Silicon Metal From Russia, 68 FR 14578 (March 26, 2003) (Antidumping Duty Order), amended by Silicon Metal From the Russian Federation; Notice of Amended Final Determination Pursuant to Court Decision, 71 FR 8277 (February 16, 2006) (Amended Final Determination).

On June 3, 2013, the Department initiated the second sunset review of this order, pursuant to section 751(c) of the Tariff Act of 1930, as amended (“the Act”).³ On June 13, 2013, the Department received a timely notice of intent to participate in this sunset review from a domestic interested party, Globe Metallurgical Inc. (Globe), pursuant to 19 CFR 351.218(d)(1). Globe claimed interested party status under section 771(9)(C) of the Act as a manufacturer in the United States of the domestic like product and as a petitioner in the investigation.

³ See Sunset Initiation Notice.

On July 3, 2013, the Department received an adequate substantive response in this sunset review from Globe within the 30-day deadline in accordance with 19 CFR 351.218(d)(3)(i). The Department did not receive a substantive response from any respondent interested party in this sunset review. As a result, pursuant to section 751(c)(3)(B) of the Act and 19 CFR 351.218(e)(1)(ii)(C)(2), the Department determined to conduct an expedited sunset review of the antidumping duty order on silicon metal from Russia.

As a result of this sunset review, the Department finds that revocation of the antidumping duty order is likely to lead to continuation or recurrence of dumping at the rates indicated in the “Final Results of Review” section of this notice.

Scope of the Order

The product covered by this order is silicon metal, which generally contains at least 96.00 percent but less than 99.99 percent silicon by weight. The merchandise covered by this order also includes silicon metal from Russia containing between 89.00 and 96.00 percent silicon by weight, but containing more aluminum than the silicon metal which contains at least 96.00 percent but less than 99.99 percent silicon by weight. Silicon metal currently is classifiable under subheadings 2804.69.10 and 2804.69.50 of the Harmonized Tariff Schedule of the United States (HTSUS). This order covers all silicon metal meeting the above specification, regardless of tariff classification.

Analysis of Comments Received

All issues raised in this review are addressed in the Issues and Decision Memorandum (“Decision Memorandum”) from Christian Marsh, Deputy Assistant Secretary for Antidumping and Countervailing Duty Operations, to Paul Piquado, Assistant Secretary for Import Administration, dated September 26, 2013, which is hereby adopted by this notice. The issues discussed in the Decision Memorandum include the likelihood of continuation or recurrence of dumping and the magnitude of the margins of dumping likely to prevail if the order were revoked. Parties can find a complete discussion of all issues raised in this review and the corresponding recommendations in this public memorandum, which is on file electronically via Import Administration's Antidumping and Countervailing Duty Centralized Electronic Service System (“IA ACCESS”). IA ACCESS is available to registered users at http://iaaccess.trade.gov and is available to all parties in the Central Records Unit in room 7046 of the main Commerce building. In addition, a complete version of the Decision Memorandum can be accessed directly on the Internet at http://ia.ita.doc.gov/frn/. The signed Decision Memorandum and electronic versions of the Decision Memorandum are identical in content.

Final Results of Review

Pursuant to sections 752(c)(1) and (3) of the Act, we determine that revocation of the antidumping duty order on silicon metal from the Russian Federation would be likely to lead to continuation or recurrence of dumping, and that the magnitude of the margins of dumping likely to prevail if the order were revoked are as follows:

Exporters/producers | Rate (percent)
ZAO Kremny and SUAL-Kremny-Ural, Ltd | 61.61
Bratsk Aluminum Smelter and Rual Trade Limited | 87.08
Russia-Wide | 79.42

This notice also serves as the only reminder to parties subject to administrative protective order (“APO”) of their responsibility concerning the return or destruction of proprietary information disclosed under APO in accordance with 19 CFR 351.305. Timely written notification of the return or destruction of APO materials, or conversion to judicial protective order, is hereby requested. Failure to comply with the regulations and terms of an APO is a violation which is subject to sanction.

The Department is issuing and publishing the final results and notice in accordance with sections 751(c), 752(c), and 777(i)(1) of the Act and 19 CFR 351.218.

Dated: September 26, 2013.
Paul Piquado,
Assistant Secretary for Import Administration.

[FR Doc. 2013-24273 Filed 10-2-13; 8:45 am]

BILLING CODE 3510-DS-P